GENERAL SERVICES ADMINISTRATION

41 CFR Parts 102-117 and 102-118

[FMR Case 2005-102-1]

RIN: 3090-AI08

Federal Management Regulation; Transportation and Management, Transportation Payment and Audit

AGENCY: Office of Governmentwide Policy, General Services Administration (GSA).

ACTION: Proposed rule.

SUMMARY: The General Services Administration is amending the Federal Management Regulation (FMR) by adding the requirement that transportation managers who obligate the Government for rate tender procurements must be properly authorized in writing. This written authorization will certify that the transportation manager is competent and trained in transportation management and has the authority to commit Government funds for the procurement of transportation or transportation services. The FMR and any corresponding documents may be accessed at GSA's website at http://www.gsa.gov/fmr.

DATES: Comment Date: July 5, 2005.

ADDRESSES: Submit comments identified by FMR case 2005-102-1 by any of the following methods:

• Federal eRulemaking Portal: http://www.regulations.gov. Follow the instructions for submitting comments.

• Agency Web Site: http://www.gsa.gov/fmr. Click on the FMR case number to submit comments.

• E-mail: fmrcase.2005-102-1@gsa.gov. Include FMR case 2005-102-1 in the subject line of the message.

• Fax: 202-501-4067.

• Mail: General Services Administration, Regulatory Secretariat (VIR), 1800 F Street, NW, Room 4035, ATTN: Laurieann Duarte, Washington, DC 20405.

Instructions: Please submit comments only and cite FMR case 2005-102-1 in all correspondence related to this case. All comments received will be posted without change to http://www.gsa.gov/fmr, including any personal information provided.

FOR FURTHER INFORMATION CONTACT: The Regulatory Secretariat, Room 4035, GS Building, Washington, DC, 20405, at (202) 208-7312 for information pertaining to status or publication schedules. For clarification of content, contact Ms. Elizabeth Allison, Office of Governmentwide Policy, Transportation Management Policy Division, at (202) 219-1729, or e-mail at elizabeth.allison@gsa.gov. Please cite FMR case 2005-102-1.

SUPPLEMENTARY INFORMATION:

A. Background

31 U.S.C. 3325 and 31 U.S.C. 3527 address the issues of liability and relief of Certifying and Disbursing Officers. The regulation proposes to clarify the issue of accountability, liability, and relief by adding an additional requirement that will mandate that any person or persons who obligates Government funds have proper written authority from the Agency Head or his/her designee.

It is the responsibility of Government associates, contractors, and/or agents of the Government to uphold their duty of spending public money in a responsible fiduciary manner. Therefore, it is the intent of this proposed regulation to cover not only certifying or disbursing officers as covered in 31 U.S.C. 3322 and 3528, but all persons holding the responsibility of procuring or paying for transportation or transportation services with Government funds to be held accountable for their transactions. Person(s) with proper authority must display this authority in plain view.

Federal associates have a duty to uphold the public trust, prevent the occurrence of conflicts of interest, and to endeavor at all times to use their position for the public benefit. It is expected that any Government employee arranging for transportation will follow standards of professionalism in the relationship between the Government shipper and the transportation service provider (TSP). As transportation managers, employees are entrusted to spend money allocated to their agency effectively and efficiently. Employees must spend those funds wisely by continually seeking for required transportation services at the lowest cost and the best value to the Government.

For transportation services acquired under the authorities of the Federal Acquisition Regulation (FAR) (48 CFR Chapter 1), contracting officers shall be appointed in writing on a Standard Form 1402, Certificate of Appointment, which shall state any limitations on the scope of authority to be exercised, other than limitations contained in applicable law or regulations. Appointing officials shall maintain files containing copies of all appointments that have not been terminated.

Agency heads are encouraged to delegate micro-purchase authority to individuals who are employees of an executive agency or members of the Armed Forces of the United States who will be using the supplies or services being purchased. Individuals delegated this authority shall be appointed in writing in accordance with agency procedures.

The FAR further states that procurement officers are to utilize the talent and experience of a qualified transportation officer for any transportation procurements. At a minimum, transportation managers, conducting a FAR procurement, will have Contracting Officer Representative (COR) training. There are a number of classes being offered in the commercial sector. GSA prescribes the Federal Acquisition Institute's Contracting Officer Representative (COR) Mentor Program that is on-line, for its CORs.

It is, therefore, reasonable to expect that transportation managers, acquiring transportation services utilizing a rate tender, will be qualified, trained in transportation management, and have experience with a rate tender. Transportation managers generally are not formally delegated the authority to perform their functions, nor are they required to meet any specialized training experience or education requirements. This proposed rule describes procedures with respect to delegations of authority, and outlines training and experience requirements. Transportation managers, acquiring transportation for one-time-only shipments utilizing procurements other than the FAR or a rate tender, should have the authority to commit Government funds. The delegated authority will be in writing.

B. Substantive Changes

This proposed rule adds the requirement and clarifies the authority and training that transportation managers must have to obligate Government expenditures for the procurement of transportation or transportation services utilizing a rate tender procurement.

This proposed rule adds the requirement and clarifies the issue of which person(s) obligating Government funds will be held accountable and that relief can only be authorized by their agency's counsel.

C. Executive Order 12866

GSA has determined that this proposed rule is not a significant rule for the purposes of Executive Order 12866 of September 30, 1993.

D. Regulatory Flexibility Act

This proposed rule will not have a significant economic impact on a substantial number of small entities within the meaning of the Regulatory Flexibility Act, 5 U.S.C. 601, et seq., because the proposed rule only applies to internal agency management and will not have a significant effect on the public.

E. Paperwork Reduction Act

The Paperwork Reduction Act does not apply because the proposed rule does not impose recordkeeping or information collection requirements, or the collection of information from offerors, contractors, or members of the public which require the approval of the Office of Management and Budget (OMB) under 44 U.S.C. 3501 et seq.

F. Small Business Regulatory Enforcement Fairness Act

This proposed rule is exempt from Congressional review prescribed under 5 U.S.C. 801 since it relates solely to agency management and personnel.

List of Subjects in 41 CFR Parts 102-117 and 102-118

Accounting, Claims, Government property management, Reporting and recordkeeping requirements, Surplus Government property, Transportation.

Dated: April 1, 2005.
G. MARTIN WAGNER,
Associate Administrator, Office of Governmentwide Policy.

For the reasons set forth in the preamble, GSA proposes to amend 41 CFR parts 102-117 and 102-118 as set forth below:

PART 102-117—TRANSPORTATION MANAGEMENT

1. The authority citation for 41 CFR part 102-117 continues to read as follows:

AUTHORITY: 31 U.S.C. 3726, 40 U.S.C. 121(c), and 49 U.S.C. 10721, 13712, and 15504.

2. Amend Part 102-117 by adding Subpart M to read as follows:

PART 102-117—TRANSPORTATION MANAGEMENT

* * * * *

Subpart M—Authorization and Training to Procure Transportation or Transportation Services

Sec.
102-117.365 What authorization do I need to procure transportation or transportation services?
102-117.370 What training or experience is necessary to qualify me as a transportation manager?
102-117.375 How do I acquire the training or experience to qualify as a transportation manager?
102-117.380 How do I document the training or experience to qualify as a transportation manager?

* * * * *

§ 102-117.365 What authorization do I need to procure transportation or transportation services?

(a) The head of the agency or someone delegated that authority must grant the employee the authority, in writing, to obligate Government funds using rate tenders to procure transportation or transportation services for that U.S. Government agency or agency component.

(b) Transportation managers, acquiring transportation for one-time-only shipments utilizing procurements other than the Federal Acquisition Regulation (48 CFR Chapter 1) or a rate tender, must have the authority to commit Government funds. The delegated authority must be in writing.

(c) This authority must be posted where anyone may see that the employee is an experienced and trained transportation manager with the authority to commit Government funds.

Note to § 102-117.365: For information on liability, see § 102-118.350 of this subchapter.

§ 102-117.370 What training or experience is necessary to qualify me as a transportation manager?

(a) A transportation manager is an authorized Federal employee who has been delegated to oversee the physical movement of commodities, household goods, and other freight from one location to another by a transportation service provider (TSP).

(b) Employees may be assigned the position of a transportation officer or technician under the Office of Personnel Management classification system. For specific duties associated with a particular classification for traffic managers, or traffic management specialists, see the Office of Personnel Management web site, www.opm.gov. The Traffic Management Series is GS-2130.

(c) Before you are assigned transportation management duties as an ancillary duty, you must demonstrate, at a minimum, knowledge and experience in planning and directing an overall traffic management program of an organization as well as—

(1) Negotiating with TSPs;

(2) Representing the organization's position in disputes, such as disagreements over rates and charges;

(3) Developing, evaluating and advising on traffic management policies and programs;

(4) Understanding a particular transportation program such as freight, personal property, or passenger;

(5) Understanding the transportation requirements and systems for specific geographical areas;

(6) Understanding programs that require transportation, such as contract administration, supply, storage, distribution, or inventory management;

(7) Understanding contract methodology for the procurement of specific transportation services;

(8) Analyzing transportation costs to develop alternatives in procurement, storage, distribution, or mobilization; and

(9) Understanding transportation policies and procedures, as well as knowledge of rate tenders and other regulations.

§ 102-117.375 How do I acquire the training or experience to qualify as a transportation manager?

(a) The minimum experience for transportation as an ancillary duty would be a formal 40-hour training course specializing in transportation management.

(b) Transportation managers with full-time responsibilities as transportation managers should have documented minimum experience requirements for transportation as an ancillary duty with a minimum of an 80-hour training course and 2-year on-the-job training. College or university class or degrees are highly desirable and may be substituted for on-the-job training.

(c) Informal training may be acquired through on-the-job training.

(d) Classroom training is available from commercial sources such as transportation associations, institutes, and colleges and universities. Much of the training is available through computer on-line classes, but other courses are taught at specific locations throughout the United States.

(e) There are also Government training forums and schools, but these may be agency specific. The Department of Transportation (DOT) lists specialized training on the DOT website for hazardous material and other specialized cargo and freight.

(f) Additional training is required if the employee moves or otherwise is involved with hazardous material, hazardous waste, or other specialized transportation requirements. This training must be current and well documented.

§ 102-117.380 How do I document the training or experience to qualify as a transportation manager?

(a) Training documentation includes a certificate of completion from a class that is accredited with the International Association for Continuing Education and Training (IACET), at a minimum, or a degree from an accredited university or college, indicating the hours of training, experience level attained, and course description.

(b) A supervisor must acknowledge in writing that the employee has attained a level of experience and the number of years of experience that is credited to the logistics or transportation management field.

PART 102-118—TRANSPORTATION PAYMENT AND AUDIT

3. The authority citation for 41 CFR part 102-118 continues to read as follows:

Authority: 31 U.S.C. 3726, 40 U.S.C. 121(c), and 49 U.S.C. 10721, 13712, and 15504.

§ 102-118.350 [Redesignated as § 102-118.351]

4. Redesignate § 102-118.350 as § 102-118.351.

5. Add new § 102-118.350 to read as follows:

§ 102-118.350 What authority must I have to obligate funds for transportation or transportation services?

(a) In accordance with 31 U.S.C. 3322 and 3528, certifying and disbursing officers are accountable for expenditures of public funds. However, any Government employee who has the responsibility to procure transportation must also have proper authority to obligate funds. This authority must be in writing from the head of your agency or his or her designee.

(b) For further information and training requirements, see part 102-117, subpart M, of this subchapter.

[FR Doc. 05-8839 Filed 5-3-05; 8:45 am]

BILLING CODE 6820-14-S